DEPARTMENT OF TRANSPORTATION

Federal Aviation Administration

14 CFR Part 39

[Docket No. 2002-NM-169-AD; Amendment 39-13284; AD 2003-17-09]

RIN 2120-AA64

Airworthiness Directives; Aerospatiale Model ATR42-500 and ATR72 Series Airplanes

AGENCY: Federal Aviation Administration, DOT.

ACTION: Final rule.

SUMMARY: This amendment adopts a new airworthiness directive (AD), applicable to certain Aerospatiale Model ATR42-500 and ATR72 series airplanes, that requires inspecting the wire bundle in the area of electrical rack 90VU to detect damage, verifying that the conduit around the wire bundle is in the proper position, and installing a clamp between the wire bundles and the carbon shelves structure. This action is necessary to prevent chafing of a wire bundle, which could result in an electrical short and potential loss of several functions essential for safe flight. This action is intended to address the identified unsafe condition.

DATES: Effective October 7, 2003.

The incorporation by reference of certain publications listed in the regulations is approved by the Director of the Federal Register as of October 7, 2003.

ADDRESSES: The service information referenced in this AD may be obtained from Aerospatiale, 316 Route de Bayonne, 31060 Toulouse, Cedex 03, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Dan Rodina, Aerospace Engineer; International Branch, ANM-116, FAA, Transport Airplane Directorate, 1601 Lind Avenue, SW., Renton, Washington 98055-4056; telephone (425) 227-2125; fax (425) 227-1149.

SUPPLEMENTARY INFORMATION: A proposal to amend part 39 of the Federal Aviation Regulations (14 CFR part 39) to include an airworthiness directive (AD) that is applicable to certain Aerospatiale Model ATR42-500 and ATR72 series airplanes was published in the Federal Register on June 18, 2003 (68 FR 36525). That action proposed to require inspecting the wire bundle in the area of electrical rack 90VU to detect damage, verifying that the conduit around the wire bundle is in the proper position, and installing a clamp between the wire bundles and the carbon shelves structure.

Comments

Interested persons have been afforded an opportunity to participate in the making of this amendment. No comments were submitted in response to the proposal or the FAA's determination of the cost to the public.

Conclusion

The FAA has determined that air safety and the public interest require the adoption of the rule as proposed.

Change to Labor Rate Estimate

We have reviewed the figures we have used over the past several years to calculate AD costs to operators. To account for various inflationary costs in the airline industry, we find it necessary to increase the labor rate used in these calculations from $60 per work hour to $65 per work hour. The cost impact information, below, reflects this increase in the specified hourly labor rate.

Cost Impact

The FAA estimates that 86 airplanes of U.S. registry will be affected by this AD, that it will take approximately 4 work hours per airplane to accomplish the required actions, and that the average labor rate is $65 per work hour. Required parts will cost approximately $259 per airplane. Based on these figures, the cost impact of the AD on U.S. operators is estimated to be $44,634, or $519 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2003-17-09 Aerospatiale: Amendment 39-13284. Docket 2002-NM-169-AD.

Applicability: Model ATR42-500 and ATR72 series airplanes, certificated in any category, on which ATR Modification 1447 has been incorporated and ATR Modification 4840 has not been incorporated.

Compliance: Required as indicated, unless accomplished previously.

To prevent chafing of a wire bundle in the area of electrical rack 90VU, which could result in an electrical short and potential loss of several functions essential for safe flight, accomplish the following:

Modification

(a) Within 500 flight hours or 6 months after the effective date of this AD, whichever occurs first: Do a detailed inspection to detect damage of the wire bundles in the area of electrical rack 90VU, ensure that the conduit around the wire bundles is in the proper position, and install a clamp between the wire bundles and the carbon shelves structure (93VU, 94VU, 95VU); in accordance with Avions de Transport Regional Service Bulletin ATR42-92-0007 (for Model ATR42-500 series airplanes) or ATR72-92-1007 (for Model ATR72 series airplanes), both dated January 25, 2002, as applicable. Repair any damaged wiring before further flight in accordance with Chapter 20-27-17 of the applicable ATR Aircraft Schematic Manual.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Alternative Methods of Compliance

(b) In accordance with 14 CFR 39.19, the Manager, International Branch, ANM-116, FAA, is authorized to approve alternative methods of compliance for this AD.

Incorporation by Reference

(c) The actions shall be done in accordance with Avions de Transport Regional Service Bulletin ATR42-92-0007, dated January 25, 2002, or Avions de Transport Regional Service Bulletin ATR72-92-1007, dated January 25, 2002, as applicable; and Chapter 20-27-17, dated October 1, 1995, of Avions de Transport Regional ATR42 Aircraft Schematic Manual, or Chapter 20-27-17, dated October 1, 1995 of the Avions de Transport Regional ATR72 Aircraft Schematic Manual, as applicable. The Avions de Transport Regional ATR42 Aircraft Schematic Manual contains the following list of effective pages:

Page Number | Date shown on page
List of Effective Pages 1-9 | April 2001.

(Only the title page of the Avions de Transport Regional ATR42 Aircraft Schematic Manual references the airplane model; no other page contains this information.) The Avions de Transport Regional ATR72 Aircraft Schematic Manual contains the following list of effective pages:

Page Number | Date shown on page
List of Effective Pages 1-9 | April 2001.

This incorporation by reference was approved by the Director of the Federal Register in accordance with 5 U.S.C. 552(a) and 1 CFR part 51. Copies may be obtained from Aerospatiale, 316 Route de Bayonne, 31060 Toulouse, Cedex 03, France. Copies may be inspected at the FAA, Transport Airplane Directorate, 1601 Lind Avenue, SW., Renton, Washington; or at the Office of the Federal Register, 800 North Capitol Street, NW., suite 700, Washington, DC.

Note 2: The subject of this AD is addressed in French airworthiness directives 2002-090-092(B) and 2002-091-066(B), both dated February 20, 2002.

Effective Date

(d) This amendment becomes effective on October 7, 2003.

Issued in Renton, Washington, on August 15, 2003.
Kyle L. Olsen,
Acting Manager, Transport Airplane Directorate, Aircraft Certification Service.

[FR Doc. 03-21413 Filed 8-29-03; 8:45 am]

BILLING CODE 4910-13-P